DEPARTMENT OF TRANSPORTATION

Federal Highway Administration

Environmental Impact Statement: Allegheny, Beaver and Butler Counties, PA

AGENCY: Federal Highway Administration (FHWA), Department of Transportation (DOT).

ACTION: Cancellation of the notice of intent.

SUMMARY: This notice rescinds the previous Notice of Intent (issued February 10, 1997—Vol. 62, No. 27) to prepare an Environmental Impact Statement for a proposed transportation improvement in the vicinity of northern Allegheny County and southern Beaver and Butler Counties.

FOR FURTHER INFORMATION CONTACT: David W. Cough, P.E., Director of Operations, Federal Highway Administration, Pennsylvania Division Office, 228 Walnut Street, Room 508, Harrisburg, PA 17101-1720, Telephone (717) 221-3411—OR—Tom Fox, Assistant District Engineer for Design, Pennsylvania Department of Transportation, District 11-0, 45 Thoms Run Road, Bridgeville, PA 15017, Telephone (412) 429-5005.

SUPPLEMENTARY INFORMATION: Additional traffic analyses have indicated that no single reasonable and cost effective alternative exists for the large-scale study corridor. Environmental Assessments and/or Categorical Exclusion Evaluations may be pursued, as appropriate, based on a revised project scoping.

(Catalog of Federal Domestic Assistance Program Number 20.205, Highway Planning and Construction. The regulations implementing Executive Order 12372 regarding intergovernmental consultation on Federal programs and activities apply to this program.)
Dated: July 23, 2002.
James A. Cheatham,
FHWA Division Administrator, Harrisburg, PA.

[FR Doc. 02-19143 Filed 7-29-02; 8:45 am]

BILLING CODE 4910-22-M